DEPARTMENT OF DEFENSE

GENERAL SERVICES ADMINISTRATION

NATIONAL AERONAUTICS AND SPACE ADMINISTRATION

[OMB Control No. 9000-0175; Docket 2012-0076, Sequence 65]

Submission for OMB Review; Use of Project Labor Agreements for Federal Construction Projects

AGENCY: Department of Defense (DOD), General Services Administration (GSA), and National Aeronautics and Space Administration (NASA).

ACTION: Notice of request for public comments regarding an extension of an existing OMB information clearance.

SUMMARY: Under the provisions of the Paperwork Reduction Act, the Regulatory Secretariat will be submitting to the Office of Management and Budget (OMB) a request to review and approve an extension of an existing information collection requirement regarding Use of Project Labor Agreements for Federal Construction Projects. A notice was published in the Federal Register at 13057, on February 26, 2013. One comment was received.

DATES: Submit comments on or before April 25, 2013.

ADDRESSES: Submit comments identified by Information Collection 9000-0175, Use of Project Labor Agreements for Federal Construction Projects, by any of the following methods:

• Regulations.gov: http://www.regulations.gov.

Submit comments via the Federal eRulemaking portal by searching the OMB control number. Select the link “Submit a Comment” that corresponds with “Information Collection 9000-0175, Use of Project Labor Agreements for Federal Construction Projects”. Follow the instructions provided at the “Submit a Comment” screen. Please include your name, company name (if any), and “Information Collection 9000-0175, Use of Project Labor Agreements for Federal Construction Projects” on your attached document.

• Fax: 202-501-4067.

• Mail: General Services Administration, Regulatory Secretariat (MVCB), 1275 First Street NE., Washington, DC 20417. ATTN: Hada Flowers/IC 9000-0175, Use of Project Labor Agreements for Federal Construction Projects.

Instructions: Please submit comments only and cite Information Collection 9000-0175, Use of Project Labor Agreements for Federal Construction Projects, in all correspondence related to this collection. All comments received will be posted without change to http://www.regulations.gov, including any personal and/or business confidential information provided.

FOR FURTHER INFORMATION CONTACT: Mr. Edward Loeb, Procurement Analyst, Office of Governmentwide Acquisition Policy, at telephone (202) 501-0650 or via email to Edward.loeb@gsa.gov.

SUPPLEMENTARY INFORMATION:

A. Purpose

FAR 22.501 prescribes policies and procedures to implement Executive Order 13502, February 6, 2009, which encourages Federal agencies to consider the use of a project labor agreement (PLA), as they may decide appropriate, on large-scale construction projects, where the total cost to the Government is more than $25 million, in order to promote economy and efficiency in Federal procurement. A PLA is a pre-hire collective bargaining agreement with one or more labor organizations that establishes the terms and conditions of employment for a specific construction project. FAR 22.503(b) provides that an agency may, if appropriate, require that every contractor and subcontractor engaged in construction on the project agree, for that project, to negotiate or become a party to a project labor agreement with one or more labor organizations if the agency decides that the use of project labor agreements will—

(1) Advance the Federal Government's interest in achieving economy and efficiency in Federal procurement, producing labor-management stability, and ensuring compliance with laws and regulations governing safety and health, equal employment opportunity, labor and employment standards, and other matters; and

(2) Be consistent with law.

B. Discussion and Analysis

One public comment was received.

Comment: The respondent commented that the extension of the information collection would violate the fundamental purposes of the Paperwork Reduction Act.

Response: In accordance with the Paperwork Reduction Act (PRA), agencies can request OMB approval on an existing information collection. PRA requires that agencies use the Federal Register notice and comment process, to extend OMB's approval, at least every three years. This extension, to a previously approved information collection, pertains to the requirement to submit a project labor agreement to the Government when such an agreement is deemed needed. Absent this information the Government would not be in a position to carry out the FAR prescribed policies and procedures to implement Executive Order 13502, which encourages Federal agencies to consider the use of a project labor agreement (PLA), as they may decide appropriate, on large-scale construction projects, where the total cost to the Government is more than $25 million.

Comment: The respondent commented that the agency did not accurately estimate the public burden challenging that the agency's methodology for calculating it is insufficient and inadequate and does not reflect the total burden. Specifically, the respondent challenged the estimated 70 respondents, the one response per respondent and the estimated one hour of burden to meet information collection requirement. The respondent recommend the use of the actual number of responses received and suggested that one hour of burden is understated.

Response: There is no existing Governmentwide data base that collects PLAs and specifically the number submitted under the various options included in the existing FAR policies and procedures. For FY 2010 and 2011, a two year average of 258 large-scale construction contracts, were awarded. The estimated number of 70 responses per year represents about thirty percent of the two year average, which is believed to be a valid estimate. As stated in the final rule in the Federal Register at 75 FR 19169 on April 10, 2010, Project Labor Agreements are mandated by an Executive order, not by the FAR. Therefore, the time required to negotiate a Project Labor Agreement was never intended to be included in this renewal request. Further, the FAR requires only that a Project Labor Agreement be submitted to the Government on an exception basis and only in order to confirm the existence of a negotiated Project Labor Agreement when someone or some circumstance has cast doubt on whether there is a Project Labor Agreement on a particular Federal construction project. The allotted hour is the time required to copy an existing document and mail it to the Government, essentially a clerical task, as such the one hour per response is retained in this information collection renewal request.

Comment: The respondent provided that the burden of compliance with the information collection requirement greatly exceeds the agency's estimate and outweighs any potential utility of the extension.

Response: The Paperwork Reduction Act (PRA) was designed to improve the quality and use of Federal information to strengthen decision-making, accountability, and openness in government and society. Central to this process is the solicitation of comments from the public. This process incorporates and enumerated specification of targeted information and provides interested parties a meaningful opportunity for comment on the relevant compliance cost. This process has led to decreases in the overall collection requirement in regards to the public. Based on OMB estimates, in FY 2010, the public spent 8.8 billion hours responding to information collections. This was a decrease of one billion hours, or ten percent from the previous fiscal year. In effect, the collective burden of compliance for the public is going down as the Government publishes rule that make the process less complex, more transparent, and reduces the cost of federal regulations to both the Contractor community and Government.

Comment: The respondent provided that agency should reassess the estimated total burden hours and revise the estimate, as was done in FAR Case 2007-006.

Response: Serious consideration given, during the open comment period, to all comments received and adjustments are made to the paperwork burden estimate based on reasonable considerations provided by the public. This is evidenced, as the respondent notes, in FAR Case 2007-006 where adjustment was made from the total preparation hours from three to 60. This change was made considering particularly the hours that would be required for review within the company prior to release to the Government. The burden is prepared taking into consideration the necessary criteria OMB guidance for estimating the paperwork burden put on the entity submitting the information. For example, consideration is given to entity reviewing instructions; using technology to collect, process, and disclose information; adjusting existing practices to comply with requirements; searching data sources; completing reviewing the response; and transmitting or disclosing information. The estimated burden hours for a collection are based on an average between the hours that a simple disclosure by a very small business might require and the much higher numbers that might be required for a very complex disclosure by a major corporation. Also, the estimated burden hours should only include projected hours for those actions which a company would not undertake in the normal course of business.

Careful consideration went into assessing the estimated burden hours for this collection. However, at any point, members of the public may submit comments for further consideration, and are encouraged to provide data to support their request for an adjustment.

C. Annual Reporting Burden

Respondents: 70.

Responses per Respondent: 1.

Annual Responses: 70.

Hours per Response: 1.

Total Burden Hours: 70.

Obtaining Copies of Proposals: Requesters may obtain a copy of the information collection documents from the General Services Administration, Regulatory Secretariat (MVCB), 1275 First Street NE., Washington, DC 20417, telephone (202) 501-4755. Please cite OMB Control No. 9000-0175, Use of Project Labor Agreements for Federal Construction Projects, in all correspondence.

Dated: March 21, 2013.
William Clark,
Acting Director, Federal Acquisition Policy Division, Office of Governmentwide Acquisition Policy, Office of Acquisition Policy, Office of Governmentwide Policy.

[FR Doc. 2013-06924 Filed 3-25-13; 8:45 am]

BILLING CODE 6820-EP-P